DEPARTMENT OF TRANSPORTATION

[Docket No. OST-2004-20004]

Office of Small and Disadvantaged Business Utilization; Notice of Request for New Data Collection

AGENCY: Office of the Secretary, DOT.

ACTION: Notice.

SUMMARY: In accordance with the Paperwork Reduction Act of 1995 (44 U.S.C. 3501 et seq.), this notice announces that the Information Collection Request (ICR) abstracted below has been forwarded to the Office of Management and Budget (OMB) for approval and comment. The ICR describes the nature of the information collection and its expected cost and burden. The Federal Register Notice with a 60-day comment period soliciting comments on the following collection of information was published on January 7, 2005 [FR Vol. 70, No. 5, page 1500-1501]. No comments were received.

DATES: Comments must be submitted on or before May 13, 2005. A comment to OMB is most effective if OMB receives it within 30 days of publication.

ADDRESSES: You may submit comments identified by DOT DMS Docket Number OST-2004-19172 by the following methods:

• Web site: http://dms.dot.gov. Follow the instructions for submitting comments on the DOT electronic docket site.

• Fax 1-202-493-2251.

• Mail: Docket Management Facility; U.S. Department of Transportation, 400 Seventh Street, SW., Nassif Building, Room PL-401, Washington, DC 20590-001.

• Hand Delivery: Room PL-401 on plaza level of the Nassif Building, 400 Seventh Street, SW., Washington, DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking process. Note that all comments received will be posted without change to http://dms.dot.gov, including any personal information provided. Please see the Privacy Act heading under Regulatory Notes.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Arthur D. Jackson, Office of Small and Disadvantaged Business Utilization, U.S. Department of Transportation, 400 Seventh Street, SW., Room 9414, Washington, DC 20590, 202-366-5344/1-800-532-1169, ext. 65344.

SUPPLEMENTARY INFORMATION: Title: Counseling Information Form; Regional Center Intake Form; and Monthly Report of Operations.

OMB Control Number: N/A.

Agency Form Number: DOT 4640.1.

Affected Public: Representatives of DOT Regional Centers and Disadvantaged Business Enterprises (DBE), women-owned and certified minority businesses, who have an interest in our business-related concerns.

Annual Estimated Burden: 4,311 hours.

Abstract: In accordance with (Pub. L. 95-507), an amendment to Small Business Act and Small Business Investment Act of 1958 and 49 U.S.C. 332(b)(2), (5), the Minority Resource Center (MRC) is authorized to facilitate, encourage, promote, and assist minority entrepreneurs and businesses in getting contracts, subcontracts, and projects related to those business opportunities. Moreover, the provision authorizes MRC to carry out market research, planning, economic and business analyses, and feasibility studies to identify those business opportunities. The cumulative data collected will be analyzed by MRC to determine the effectiveness of counseling and services provided as well as a description of the Disadvantaged Business Enterprise (DBE).

DOT Regional Center will collect information on a Disadvantaged Business Enterprise (DBE), such as type of business & services they seek from DOT Regional Centers. Services provided include business plan, marketing, sales, financial analysis, etc. Such data will be analyzed by OSDBU to determine agency effectiveness in assisting DBEs obtain government contracts and subcontracts.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

All responses to this notice will be summarized and included in the request for OMB approval.

Issued in Washington, DC, on April 7, 2005.
Michael A. Robinson,
Information Technology Program Management, United States Department of Transportation.

[FR Doc. 05-7374 Filed 4-12-05; 8:45 am]

BILLING CODE 4910-62-P